POSTAL REGULATORY COMMISSION

Sunshine Act Meetings

Name of Agency: Postal Regulatory Commission.

Time and Date: Thursday, February 22, 2007 at 2 p.m.

Place: Commission conference room, 901 New York Avenue, NW., Suite 200, Washington, DC 20268-0001.

Status: Closed.

Matters to be Considered: Personnel matters—selection of director of Public Affairs and Congressional Relations.

Contact Person for More Information: Stephen L. Sharfman, General Counsel, Postal Regulatory Commission, 901 New York Avenue, NW., Suite 200, Washington, DC 20268-0001, 202-789-6818.

Dated: February 16, 2007
Steven W. Williams
Secretary.

[FR Doc. 07-810 Filed 2-16-07; 4:21 pm]

BILLING CODE 7710-FW-M